DEPARTMENT OF HOUSING AND URBAN DEVELOPMENT

[Docket No. FR-4980-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Audrey C. Ormerod, Department of the Army, Office of the Assistant Chief of Staff for Installation Management, Attn: DAIM-MD, Room 1E677, 600 Army Pentagon, Washington, DC 20310-0600; (703) 601-2520; COE: Ms. Shirley Middleswarth, Army Corps of Engineers, Civil Division, Directorate of Real Estate, 441 G Street, NW., Washington, DC 20314-1000; (202) 761-7425; ENERGY: Mr. Andy Duran, Department of Energy, Office of Engineering & Construction Management, ME-90, 1000 Independence Ave, SW., Washington, DC 20585: (202) 586-4548; GSA: Mr. Brian K. Polly, Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 219-0728; NAVY: Mr. Charles C. Cocks, Department of the Navy, Real Estate Policy Division, Naval Facilities Engineering Command, Washington Navy Yard, 1322 Patterson Ave., SE., Suite 1000, Washington, DC 20374-5065; (202) 685-9200; (These are not toll-free numbers).

Dated: April 21, 2005.
Mark R. Johnston,
Director, Office of Special Needs Assistance Programs.

Title V, Federal Surplus Property Program Federal Register Report for 4/29/05

Suitable/Available Properties

Buildings (by State)

California

Federal Building

415 West 18th Street

Merced Co: CA 95340-

Landholding Agency: GSA

Property Number: 54200520006

Status: Surplus

Comment: 15,492 sq. ft., over 50% occupied for up to two years, most recent use—post office/office space, listed on the National Register of Historic Places

GSA Number : 9-G-CA-1567

Trailer 51243

Joshua Tree Natl Park

74485 Natl Park Drive

San Bernardino Co: CA 92277-

Landholding Agency: Interior

Property Number: 61200520004

Status: Unutilized

Comment: 600 sq. ft., needs repair, off-site use only

Trailer 51243

Joshua Tree Natl Park

74485 Natl Park Drive

San Bernardino Co: CA 92277-

Landholding Agency: Interior

Property Number: 61200520005

Status: Unutilized

Comment: 576 sq. ft., needs repair, off-site use only

South Dakota

Post Ofc/Courthouse

102 4th Avenue, SE

Aberdeen Co: Brown SD 57401-4309

Landholding Agency: GSA

Property Number: 54200520011

Status: Excess

Comment: 32,162 sq. ft., currently 42% occupied, presence of asbestos, most recent use—office, listed on Natl Register of Historic Structures

GSA Number: 7-G-SD-0527

Tennessee

Tract 01-171

National Military Park

Shiloh Co: Hardin TN 38376-

Landholding Agency: Interior

Property Number: 61200520010

Status: Excess

Comment: 1344 sq. ft. mobile home, off-site use only

Tract 01-174

National Military Park

Shiloh Co: Hardin TN 38376-

Landholding Agency: Interior

Property Number: 61200520011

Status: Excess

Comment: 1179 sq. ft., presence of lead paint most recent use—residential, off-site use only

Land (by State)

Arizona

0.03 acres

Dobson & Elliott Road Encroachment

Chandler Co: Maricopa AZ 85224-

Landholding Agency: GSA

Property Number: 54200520005

Status: Surplus

Comment: 35 x 35, building encroachment

GSA Number: 9-I-AZ-834

Kentucky

Site No. 7

Big Bone Access

Boat Dock Road

Union Co: Boone KY 41005-

Landholding Agency: GSA

Property Number: 54200520010

Status: Excess

Comment: 39 acres with boat ramp and parking area, existing easements, Corps reserves the right to overflow/flood

GSA Number : 4-D-KY-0620

Unsuitable Properties

Buildings (by State)

Alabama

Bldg. 00209

Anniston Army Depot

Anniston Co: Calhoun AL 36201-4199

Landholding Agency: Army

Property Number: 21200520001

Status: Unutilized

Reason: Extensive deterioration

Bldgs. 00010, 00354

Redstone Arsenal

Garrison Co: AL 35898-5000

Landholding Agency: Army

Property Number: 21200520002

Status: Unutilized

Reasons: Secured Area, Extensive deterioration

Alaska

BIA Staff Bldg.

200 1st Avenue

Nome Co: AK 99762-

Landholding Agency: GSA

Property Number: 54200520007

Status: Excess

Reason: Within 2000 ft. of flammable or explosive material

GSA Number: 9-I-AK-797

California

Bldgs. 00635, 00796

Park Reserve Forces

Training Area

Dublin Co: Alameda CA 94568-

Landholding Agency: Army

Property Number: 21200520003

Status: Excess

Reason: Extensive deterioration

Bldg. 756

Wastewater Treatment Plant

El Portal Co: Mariposa CA 95318-

Landholding Agency: Interior

Property Number: 61200520001

Status: Unutilized

Reason: Extensive deterioration

FMSS Asset 6727

Sunrise Backpackers Campground

Mariposa Co: CA 95389-

Landholding Agency: Interior

Property Number: 61200520002

Status: Unutilized

Reason: not accessible by road

FMSS Asset 6728

Glen Aulin Backpackers Campground

Tuolumne Co: CA 95389-

Landholding Agency: Interior

Property Number: 61200520003

Status: Unutilized

Reason: not accessible by road

Bldg. 2533

Marine Corps Base

Camp Pendleton Co: CA 92055-

Landholding Agency: Navy

Property Number: 77200520005

Status: Excess

Reasons: Secured Area, Extensive deterioration

Bldg. 13111

Marine Corps Base

Camp Pendleton Co: CA 92055-

Landholding Agency: Navy

Property Number: 77200520006

Status: Excess

Reasons: Secured Area, Extensive deterioration

Bldgs. 53325, 53326

Marine Corps Base

Camp Pendleton Co: CA 92055-

Landholding Agency: Navy

Property Number: 77200520007

Status: Excess

Reasons: Secured Area, Extensive deterioration

5 Bldgs.

Marine Corps Base

53421, 53424 thru 53427

Camp Pendleton Co: CA 92055-

Landholding Agency: Navy

Property Number: 77200520008

Status: Excess

Reasons: Secured Area, Extensive deterioration

Bldgs. 61311, 61313, 61314

Marine Corps Base

Camp Pendleton Co: CA 92055-

Landholding Agency: Navy

Property Number: 77200520009

Status: Excess

Reasons: Secured Area, Extensive deterioration

Bldgs. 61320-61324, 61326

Marine Corps Base

Camp Pendleton Co: CA 92055-

Landholding Agency: Navy

Property Number: 77200520010

Status: Excess

Reasons: Secured Area

Extensive deterioration

Bldgs. 62711 thru 62717

Marine Corps Base

Camp Pendleton Co: CA 92055-

Landholding Agency: Navy

Property Number: 77200520011

Status: Excess

Reasons: Secured Area, Extensive deterioration

Georgia

Bldgs. 00132, 00504

Fort McPherson

Fulton Co: GA 30330-1096

Landholding Agency: Army

Property Number: 21200520004

Status: Unutilized

Reason: Extensive deterioration

3 Buildings

Camp Merrill

00023, 00049, 00070

Dahlonega Co: Lumpkin GA 30533-

Landholding Agency: Army

Property Number: 21200520005

Status: Unutilized

Reason: Extensive deterioration

Bldg. 5101

Naval Submarine Base

Kings Bay Co: Camden GA 31547-

Landholding Agency: Navy

Property Number: 77200520004

Status: Unutilized

Reasons: Floodway, Secured Area, Extensive deterioration

Hawaii

Bldgs. 00001 thru 00051

Kipapa Ammor Storage Site

Honolulu Co: HI 96786-

Landholding Agency: Army

Property Number: 21200520006

Status: Unutilized

Reason: Extensive deterioration

Bldgs. 00802, 01005

Wheeler Army Airfield

Wahiawa Co: Honolulu HI 96786-

Landholding Agency: Army

Property Number: 21200520007

Status: Unutilized

Reason: Extensive deterioration

Bldgs. 01500 thru 01503

Wheeler Army Airfield

Honolulu Co: HI 96786-

Landholding Agency: Army

Property Number: 21200520008

Status: Unutilized

Reason: Extensive deterioration

Illinois

Trailers 115, T158

FERMILAB

Batavia Co: DuPage IL 60510-

Landholding Agency: Energy

Property Number: 41200520002

Status: Excess

Reason: Extensive deterioration

Iowa

3 Buildings

Iowa Army Ammo Plant

00036, 00816, 01067

Middletown Co: Des Moines IA 52601-

Landholding Agency: Army

Property Number: 21200520009

Status: Unutilized

Reasons: Within 2000 ft. of flammable or explosive material, Secured Area, Extensive deterioration

Kansas

Bldg. 896

Fort Leavenworth

Leavenworth Co: KS 66027-

Landholding Agency: Army

Property Number: 21200520010

Status: Unutilized

Reason: Extensive deterioration

Kentucky

Bldg. 00023

Blue Grass Army Depot

Richmond Co: Madison KY 40475-

Landholding Agency: Army

Property Number: 21200520011

Status: Unutilized

Reason: Secured Area

Bldg. 3110

Fort Campbell

Christian Co: KY 42223-

Landholding Agency: Army

Property Number: 21200520012

Status: Unutilized

Reason: Extensive deterioration

Bldg. 06446

Fort Campbell

Christian Co: KY 42223-

Landholding Agency: Army

Property Number: 21200520013

Status: Unutilized

Reason: Extensive deterioration

Bldg. 06448

Fort Campbell

Christian Co: KY 42223-

Landholding Agency: Army

Property Number: 21200520014

Status: Unutilized

Reason: Extensive deterioration

Bldg. 07230

Fort Campbell

Christian Co: KY 42223-

Landholding Agency: Army

Property Number: 21200520015

Status: Unutilized

Reason: Extensive deterioration

Maryland

Bldg. 73

Fort George G. Meade

Anne Arundel Co: MD 20755-5115

Landholding Agency: Army

Property Number: 21200520016

Status: Unutilized

Reason: Extensive deterioration

Bldgs. 2222C, 2222D

Fort George G. Meade

Anne Arundel Co: MD 20755-5115

Landholding Agency: Army

Property Number: 21200520017

Status: Unutilized

Reason: Extensive deterioration

Bldg. 3185

Fort George G. Meade

Anne Arundel Co: MD 20755-5115

Landholding Agency: Army

Property Number: 21200520018

Status: Unutilized

Reason: Extensive deterioration

Bldg. 4674A

Fort George G. Meade

Anne Arundel Co: MD 20755-5115

Landholding Agency: Army

Property Number: 21200520019

Status: Unutilized

Reason: Extensive deterioration

Bldg. 8610

Fort George G. Meade

Anne Arundel Co: MD 20755-5115

Landholding Agency: Army

Property Number: 21200520020

Status: Unutilized

Reason: Extensive deterioration

38 Bldgs.

Aberdeen Proving Grounds

Aberdeen Co: Harford MD 21005-

Location: Chemical Warfare Neutralization Site

Landholding Agency: Army

Property Number: 21200520021

Status: Underutilized

Reason: Secured Area

Bldg. 02831

Aberdeen Proving Ground

Harford Co: MD 21005-

Landholding Agency: Army

Property Number: 21200520072

Status: Unutilized

Reason: Secured Area

Bldg. E5000

Aberdeen Proving Ground

Edgewood Co: Harford MD 21005-

Landholding Agency: Army

Property Number: 21200520073

Status: Unutilized

Reason: Secured Area

Michigan

4 Buildings

Detroit Arsenal

T0209, T0216, T0246, T0247

Warren Co: Macomb MI 48397-5000

Landholding Agency: Army

Property Number: 21200520022

Status: Unutilized

Reason: Secured Area

New Hampshire

CRREL Greenhouse

Lyme Road

Hanover Co: Grafton NH 03755-

Landholding Agency: GSA

Property Number: 54200520009

Status: Excess

Reason: Extensive deterioration, GSA Number: 1-D-NH-496

New Jersey

Bldgs. 9167B, 9904

Fort Dix

Burlington Co: NJ 08640-

Landholding Agency: Army

Property Number: 21200520023

Status: Unutilized

Reason: Extensive deterioration

Bldg. 178

Picatinny Arsenal

Dover Co: NJ 07806-5000

Landholding Agency: Army

Property Number: 21200520024

Status: Unutilized

Reasons: Within 2000 ft. of flammable or explosive material, Secured Area

5 Bldgs.

Picatinny Arsenal 214-216, 221, 225

Dover Co: NJ 07806-5000

Landholding Agency: Army

Property Number: 21200520025

Status: Unutilized

Reasons: Within 2000 ft. of flammable or explosive material, Secured Area

4 Bldgs.

Picatinny Arsenal 230, 230A, 230B, 230G

Dover Co: NJ 07806-5000

Landholding Agency: Army

Property Number: 21200520026

Status: Unutilized

Reasons: Within 2000 ft. of flammable or explosive material, Secured Area

Bldgs. 232, 234, 235

Picatinny Arsenal

Dover Co: NJ 07806-5000

Landholding Agency: Army

Property Number: 21200520027

Status: Unutilized

Reasons: Within 2000 ft. of flammable or explosive material, Secured Area

Bldg. 338

Picatinny Arsenal

Dover Co: NJ 07806-5000

Landholding Agency: Army

Property Number: 21200520028

Status: Unutilized

Reasons: Within 2000 ft. of flammable or explosive material, Secured Area

4 Bldgs.

Picatinny Arsenal 408, 424, 424C, 424D

Dover Co: NJ 07806-5000

Landholding Agency: Army

Property Number: 21200520029

Status: Unutilized

Reasons: Within 2000 ft. of flammable or explosive material, Secured Area

5 Bldgs.

Picatinny Arsenal 427, 427B, 429A, 430B, 477

Dover Co: NJ 07806-5000

Landholding Agency: Army

Property Number: 21200520030

Status: Unutilized

Reasons: Within 2000 ft. of flammable or explosive material, Secured Area

Bldgs. 525A, 566

Picatinny Arsenal

Dover Co: NJ 07806-5000

Landholding Agency: Army

Property Number: 21200520031

Status: Unutilized

Reasons: Within 2000 ft. of flammable or explosive material, Secured Area

Bldgs. 611C, 634, 637

Picatinny Arsenal

Dover Co: NJ 07806-5000

Landholding Agency: Army

Property Number: 21200520032

Status: Unutilized

Reasons: Within 2000 ft. of flammable or explosive material, Secured Area

4 Bldgs.

Picatinny Arsenal 641C, 641D, 641F, 641G

Dover Co: NJ 07806-5000

Landholding Agency: Army

Property Number: 21200520033

Status: Unutilized

Reasons: Within 2000 ft. of flammable or explosive material, Secured Area

4 Bldgs.

Picatinny Arsenal 652B, 655, 658, 659

Dover Co: NJ 07806-5000

Landholding Agency: Army

Property Number: 21200520034

Status: Unutilized

Reasons: Within 2000 ft. of flammable or explosive material, Secured Area

Bldgs. 1241, 1242, 1242A

Picatinny Arsenal

Dover Co: NJ 07806-5000

Landholding Agency: Army

Property Number: 21200520035

Status: Unutilized

Reasons: Within 2000 ft. of flammable or explosive material, Secured Area

6 Bldgs.

Picatinny Arsenal

Dover Co: NJ 07806-5000

Location: 1354, 1357, 1357A, 1359, 1359A, 1361

Landholding Agency: Army

Property Number: 21200520036

Status: Unutilized

Reasons: Within 2000 ft. of flammable or explosive material, Secured Area

Bldgs. 1400, 1510B

Picatinny Arsenal

Dover Co: NJ 07806-5000

Landholding Agency: Army

Property Number: 21200520037

Status: Unutilized

Reasons: Within 2000 ft. of flammable or explosive material, Secured Area

Bldgs. 01600, 01611

Picatinny Arsenal

Dover Co: NJ 07806-5000

Landholding Agency: Army

Property Number: 21200520038

Status: Unutilized

Reasons: Within 2000 ft. of flammable or explosive material, Secured Area

Bldg. 3612

Picatinny Arsenal

Dover Co: NJ 07806-5000

Landholding Agency: Army

Property Number: 21200520039

Status: Unutilized

Reasons: Within 2000 ft. of flammable or explosive material, Secured Area

New York

Quarters 3018

U.S. Military Academy

Highlands Co: Orange NY 10996-1592

Landholding Agency: Army

Property Number: 21200520040

Status: Unutilized

Reason: Extensive deterioration

Bldg. 00805

Fort Drum

Jefferson Co: NY 13602-

Landholding Agency: Army

Property Number: 21200520041

Status: Unutilized

Reason: Extensive deterioration

Bldgs. 00904, 00913

Fort Drum

Jefferson Co: NY 13602-

Landholding Agency: Army

Property Number: 21200520042

Status: Unutilized

Reason: Extensive deterioration

Bldg. 02362

Fort Drum

Jefferson Co: NY 13602-

Landholding Agency: Army

Property Number: 21200520043

Status: Unutilized

Reason: Extensive deterioration

Bldg. 03827

Fort Drum

Jefferson Co: NY 13602-

Landholding Agency: Army

Property Number: 21200520044

Status: Unutilized

Reason: Extensive deterioration

Bldg. 04898

Fort Drum

Jefferson Co: NY 13602-

Landholding Agency: Army

Property Number: 21200520045

Status: Unutilized

Reason: Extensive deterioration

Bldg. 21616

Fort Drum

Jefferson Co: NY 13602-

Landholding Agency: Army

Property Number: 21200520046

Status: Unutilized

Reason: Extensive deterioration

4 Bldgs.

Fort Drum

22412, 22416, 22462, 22606

Jefferson Co: NY 13602-

Landholding Agency: Army

Property Number: 21200520047

Status: Unutilized

Reason: Extensive deterioration

Ohio

Army Reserve Activity #56

Jack Gibbs Blvd.

Columbus Co: OH 43215-1795

Landholding Agency: GSA

Property Number: 54200520008

Status: Surplus

Reason: Extensive deterioration

GSA Number: 1-D-OH-05832A

Oklahoma

Bldgs. 00437, 00438

McAlester Army Ammo Plant

Pittsburg Co: OK 74501-

Landholding Agency: Army

Property Number: 21200520048

Status: Excess

Reasons: Secured Area, Extensive deterioration

Pennsylvania

Bldg. 00039

Carlisle Barracks

Cumberland Co: PA 17013-

Landholding Agency: Army

Property Number: 21200520049

Status: Excess

Reason: Extensive deterioration

South Carolina

Bldg. 5882

Fort Jackson

Richland Co: SC 29207-

Landholding Agency: Army

Property Number: 21200520050

Status: Unutilized

Reason: Extensive deterioration

Tennessee

Air Raid Shelters

Milan Army Ammo Plant

Gibson Co: TN 38358-

Location: A001U-A119U, B001U-B008U, C001U-C010U, D001U-D010U, E001U-E010U, F001U-F010U, G001U-G010U, H001U-H005U

Landholding Agency: Army

Property Number: 21200520051

Status: Excess

Reasons: Within 2000 ft. of flammable or explosive material, Secured Area, Extensive deterioration

Bldg. X0028

Milan Army Ammo Plant

Gibson Co: TN 38358-

Landholding Agency: Army

Property Number: 21200520052

Status: Excess

Reasons: Within 2000 ft. of flammable or explosive material, Secured Area, Extensive deterioration

Bldg. 02107

Fort Campbell

Montgomery Co: TN 42223-

Landholding Agency: Army

Property Number: 21200520053

Status: Unutilized

Reason: Extensive deterioration

3 Bldgs.

Fort Campbell

02133, 02427, 02556

Montgomery Co: TN 42223-

Landholding Agency: Army

Property Number: 21200520054

Status: Unutilized

Reason: Extensive deterioration

Bldgs. 02152, 02188

Fort Campbell

Montgomery Co: TN 42223-

Landholding Agency: Army

Property Number: 21200520055

Status: Unutilized

Reason: Extensive deterioration

Bldg. 2440

Fort Campbell

Montgomery Co: TN 42223-

Landholding Agency: Army

Property Number: 21200520056

Status: Unutilized

Reason: Extensive deterioration

3 Bldgs.

Fort Campbell

2529, 2534, 2536

Montgomery Co: TN 42223-

Landholding Agency: Army

Property Number: 21200520057

Status: Unutilized

Reason: Extensive deterioration

Bldgs. 02537, 02539

Fort Campbell

Montgomery Co: TN 42223-

Landholding Agency: Army

Property Number: 21200520058

Status: Unutilized

Reason: Extensive deterioration

3 Bldgs.

Fort Campbell

2625, 2627, 2746

Montgomery Co: TN 42223-

Landholding Agency: Army

Property Number: 21200520059

Status: Unutilized

Reason: Extensive deterioration

Bldgs. 02625, 02627

Fort Campbell

Montgomery Co: TN 42223-

Landholding Agency: Army

Property Number: 21200520060

Status: Unutilized

Reason: Extensive deterioration

Bldg. 05613

Fort Campbell

Montgomery Co: TN 42223-

Landholding Agency: Army

Property Number: 21200520061

Status: Unutilized

Reason: Extensive deterioration

Bldgs. 07352, 07814

Fort Campbell

Montgomery Co: TN 42223-

Landholding Agency: Army

Property Number: 21200520062

Status: Unutilized

Reason: Extensive deterioration

Quarters 240

Natchez Trace Pkwy

Hohenwald Co: Lewis TN 38462-

Landholding Agency: Interior

Property Number: 61200520006

Status: Excess

Reason: Extensive deterioration

Tract 01-167

National Military Park

Shiloh Co: Hardin TN 38376-

Landholding Agency: Interior

Property Number: 61200520007

Status: Excess

Reason: Extensive deterioration

Tract 01-168

National Military Park

Shiloh Co: Hardin TN 38376-

Landholding Agency: Interior

Property Number: 61200520008

Status: Excess

Reason: Extensive deterioration

Texas

Bldgs. 05110, 06088

Fort Sam Houston

Camp Bullis Co: Bexar TX -

Landholding Agency: Army

Property Number: 21200520063

Status: Excess

Reason: Extensive deterioration

Virginia

Bldg. 03509

Fort Lee

Prince George Co: VA 23801-

Landholding Agency: Army

Property Number: 21200520064

Status: Unutilized

Reason: Extensive deterioration

Bldg. 12401

Fort Lee

Prince George Co: VA 23801-

Landholding Agency: Army

Property Number: 21200520065

Status: Unutilized

Reason: Extensive deterioration

Bldg. 00607

Fort Belvoir

Fairfax Co: VA 22060-

Landholding Agency: Army

Property Number: 21200520066

Status: Unutilized

Reason: Extensive deterioration

Bldg. 00612

Fort Belvoir

Fairfax Co: VA 22060-

Landholding Agency: Army

Property Number: 21200520067

Status: Unutilized

Reason: Extensive deterioration

Bldg. 00678

Fort Belvoir

Fairfax Co: VA 22060-

Landholding Agency: Army

Property Number: 21200520068

Status: Unutilized

Reason: Extensive deterioration

Bldgs. 00772-00773

Fort Belvoir

Fairfax Co: VA 22060-

Landholding Agency: Army

Property Number: 21200520069

Status: Unutilized

Reason: Extensive deterioration

Bldg. 01084

Fort Belvoir

Fairfax Co: VA 22060-

Landholding Agency: Army

Property Number: 21200520070

Status: Unutilized

Reason: Extensive deterioration

Bldg. 01930

Fort Belvoir

Fairfax Co: VA 22060-

Landholding Agency: Army

Property Number: 21200520071

Status: Unutilized

Reason: Extensive deterioration

Washington

Bldg. 1101

N. Cascades Natl Park

Whatcom Co: WA

Landholding Agency: Interior

Property Number: 61200520009

Status: Unutilized

Reason: Extensive deterioration

[FR Doc. 05-8335 Filed 4-28-05; 8:45 am]

BILLING CODE 4210-29-P